DEPARTMENT OF LABOR

Occupational Safety and Health Administration

[Docket No. OSHA-2013-0016]

Nemko-CCL, Inc.: Applications for Expansion of Recognition

AGENCY: Occupational Safety and Health Administration (OSHA), Labor.

ACTION: Notice.

SUMMARY: In this notice, OSHA announces the applications of Nemko-CCL, Inc. for expansion of its scope of recognition as a Nationally Recognized Testing Laboratory (NRTL) and presents the Agency's preliminary finding to grant the applications.

DATES: Submit comments, information, and documents in response to this notice, or requests for an extension of time to make a submission, on or before June 1, 2016.

ADDRESSES: Submit comments by any of the following methods:

1. Electronically: Submit comments and attachments electronically at http://www.regulations.gov, which is the Federal eRulemaking Portal. Follow the instructions online for making electronic submissions.

2. Facsimile: If submissions, including attachments, are not longer than 10 pages, commenters may fax them to the OSHA Docket Office at (202) 693-1648.

3. Regular or express mail, hand delivery, or messenger (courier) service: Submit comments, requests, and any attachments to the OSHA Docket Office, Docket No. OSHA-2013-0016, Technical Data Center, U.S. Department of Labor, 200 Constitution Avenue NW., Room N-2625, Washington, DC 20210; telephone: (202) 693-2350 (TTY number: (877) 889-5627). Note that security procedures may result in significant delays in receiving comments and other written materials by regular mail. Contact the OSHA Docket Office for information about security procedures concerning delivery of materials by express mail, hand delivery, or messenger service. The hours of operation for the OSHA Docket Office are 8:15 a.m.-4:45 p.m., e.t.

4. Instructions: All submissions must include the Agency name and the OSHA docket number OSHA-2013-0016. OSHA places comments and other materials, including any personal information, in the public docket without revision, and these materials will be available online at http://www.regulations.gov. Therefore, the Agency cautions commenters about submitting statements they do not want made available to the public, or submitting comments that contain personal information (either about themselves or others) such as Social Security numbers, birth dates, and medical data.

5. Docket: To read or download submissions or other material in the docket, go to http://www.regulations.gov or the OSHA Docket Office at the address above. All documents in the docket are listed in the http://www.regulations.gov index; however, some information (e.g., copyrighted material) is not publicly available to read or download through the Web site. All submissions are available for inspection at the OSHA Docket Office. Contact the OSHA Docket Office for assistance in locating docket submissions.

6. Extension of comment period: Submit requests for an extension of the comment period on or before June 1, 2016 to the Office of Technical Programs and Coordination Activities, Directorate of Technical Support and Emergency Management, Occupational Safety and Health Administration, U.S. Department of Labor, 200 Constitution Avenue NW., Room N-3655, Washington, DC 20210, or by fax to (202) 693-1644.

FOR FURTHER INFORMATION CONTACT: Information regarding this notice is available from the following sources:

Press inquiries: Contact Mr. Frank Meilinger, Director, OSHA Office of Communications, U.S. Department of Labor, 200 Constitution Avenue NW., Room N-3647, Washington, DC 20210; phone: (202) 693-1999; email: meilinger.francis2@dol.gov.

General and technical information: Contact Mr. Kevin Robinson, Director, Office of Technical Programs and Coordination Activities, Directorate of Technical Support and Emergency Management, Occupational Safety and Health Administration, U.S. Department of Labor, 200 Constitution Avenue NW., Room N-3655, Washington, DC 20210; phone: (202) 693-2110 or email: robinson.kevin@dol.gov.

SUPPLEMENTARY INFORMATION:

I. Notice of the Applications for Expansion

The Occupational Safety and Health Administration is providing notice that Nemko-CCL, Inc. (CCL), is applying for expansion of its current recognition as an NRTL. CCL requests the addition of two (2) recognized testing and certification sites, and twenty-two (22) additional test standards to its NRTL scope of recognition. Additionally, CCL is applying to relocate its headquarters to Ottawa, Canada, after its existing headquarters in Salt Lake City, Utah was destroyed in a fire.

OSHA recognition of an NRTL signifies that the organization meets the requirements specified in title 29, Code of Federal Regulations, section 1910.7 (29 CFR 1910.7). Recognition is an acknowledgment that the organization can perform independent safety testing and certification of the specific products covered within its scope of recognition and is not a delegation or grant of government authority. Recognition enables employers to use products approved by the NRTL to meet OSHA standards that require product testing and certification.

The Agency processes applications by an NRTL for initial recognition and for an expansion or renewal of this recognition, following requirements in Appendix A to 29 CFR 1910.7. This appendix requires that the Agency publish two notices in the Federal Register in processing an application. In the first notice, OSHA announces the application and provides its preliminary finding. In the second notice, the Agency provides its final decision on the application. These notices set forth the NRTL's scope of recognition or modifications of that scope. OSHA maintains an informational Web page for each NRTL, including CCL, which details the NRTL's scope of recognition. These pages are available from the OSHA Web site at http://www.osha.gov/dts/otpca/nrtl/index.html.

Each NRTL's scope of recognition includes: (1) The type of products the NRTL may test, with each type specified by its applicable test standard; and (2) the recognized site(s) that has/have the technical capability to perform the product testing and product-certification activities for test standards within the NRTL's scope.

CCL currently has one facility (site) recognized by OSHA for product testing and certification, with its headquarters located at: Nemko-CCL 1940 West Alexander Street, Salt Lake City, Utah 84119-2039. A complete list of CCL sites recognized by OSHA is available at https://www.osha.gov/dts/otpca/nrtl/ccl.html.

II. General Background on the Applications for Expansion

CCL submitted two applications, one dated January 28, 2015 (OSHA-2013-0016-008), and a second dated January 26, 2016 (OSHA-2013-0016-009), to expand its recognition to include the addition of two recognized testing and certification sites located at: Nemko North America, Inc., 2210 Faraday Avenue, Suite 150, Carlsbad, California 92008; and Nemko Canada, Inc., 303 River Road, Ottawa, Ontario, Canada K1V 1H2. OSHA staff performed an on-site review of CCL's testing facilities on November 17-18, 2015, at CCL Ottawa, and on January 11-12, 2016, at CCL California. During these assessments, the assessors found some nonconformances with the requirements of 29 CFR 1910.7. CCL addressed these issues sufficiently, and OSHA staff preliminarily determined that OSHA should grant the applications.

CCL's first application also requested the addition of twenty-two test standards to its scope of recognition. OSHA staff performed a detailed analysis of the application packet, reviewed other pertinent information, and conducted the on-site reviews described above in relation to this application.

Table 1 below lists the appropriate test standards found in CCL's application for expansion for testing and certification of products under the NRTL Program.

Table 1—Proposed List of Appropriate Test Standards for Inclusion in CCL's NRTL Scope of Recognition
Test standard | Test standard title
UL 60335-1 | Safety of Household and Similar Electrical Appliances, Part 1: General Requirements.
UL 60335-2-24 | Safety Requirement for Household and Similar Electrical Appliances, Part 2: Refrigerating Appliances, Ice-Cream Appliances and Ice Makers.
UL 197 | Commercial Electric Cooking Appliances.
UL 250 | Household Refrigerators and Freezers.
UL 427 | Refrigerating Units.
UL 471 | Commercial Refrigerators and Freezers.
UL 499 | Electric Heating Appliances.
UL 507 | Electric Fans.
UL 561 | Floor Finishing Machines.
UL 563 | Ice Makers.
UL 705 | Power Ventilators.
UL 751 | Vending Machines.
UL 763 | Motor-Operated Commercial Food Preparing Machines.
UL 859 | Personal Grooming Appliance.
UL 867 | Electrostatic Air Cleaners.
UL 982 | Motor-Operated Food Preparing Machines.
UL 1017 | Electric Vacuum Cleaning Machines and Blower Cleaners.
UL 1026 | Electric Household Cooking and Food-Serving Appliances.
UL 1082 | Household Electric Coffee Makers and Brewing-Type Appliances.
UL 1083 | Household Electric Skillets and Frying-Type Appliances.
UL 1431 | Personal Hygiene and Health Care Appliances.
UL 1563 | Electric Spas, Equipment Assemblies and Associated Equipment.

III. Background on the Relocation of Nemko-CCL, Inc. Headquarters

On October 28, 2015, CCL provided notice to OSHA that their company headquarters located at 1940 West Alexander Road, Salt Lake City, Utah 84119-2039 had been completely destroyed in a fire that occurred on October 25, 2015. CCL temporarily moved their testing operations to their Ottawa and California locations while searching for a location to re-establish their headquarters. OSHA advised CCL that their inability to perform testing at their recognized site could lead to revocation from the NRTL Program, but proceeded to conduct the November 2015 and January 2016 on-site assessments of the Ottawa and California proposed sites because these assessments were scheduled before the fire occurred. In January of 2016, CCL advised OSHA that they wanted to move their headquarters to the Ottawa, Canada site and had secured a new location for their Salt Lake City, Utah site, which would now serve as an administrative site with no test capabilities. OSHA performed an electronic assessment of this new administrative site located at Nemko-CCL, Inc. 2964 West 4700 South, Suite 200, Salt Lake City, Utah 84129, on February 17, 2016.

IV. Preliminary Finding on the Applications

CCL submitted acceptable applications for expansion of its scope of recognition, and relocation of its company headquarters. OSHA's review of the application files and its detailed on-site and electronic assessments indicate that CCL can meet the requirements prescribed by 29 CFR 1910.7 for expanding its recognition to include the addition of these two sites and twenty-two test standards for NRTL testing and certification and the new headquarters site. This preliminary finding does not constitute an interim or temporary approval of CCL's applications.

OSHA welcomes public comment as to whether CCL meets the requirements of 29 CFR 1910.7 for expansion of its recognition as an NRTL. Comments should consist of pertinent written documents and exhibits. Commenters needing more time to comment must submit a request in writing, stating the reasons for the request. Commenters must submit the written request for an extension by the due date for comments. OSHA will limit any extension to 10 days unless the requester justifies a longer period. OSHA may deny a request for an extension if it is not adequately justified. To obtain or review copies of the exhibits identified in this notice, as well as comments submitted to the docket, contact the Docket Office, Room N-2625, Occupational Safety and Health Administration, U.S. Department of Labor, at the above address. These materials also are available online at http://www.regulations.gov under Docket No. OSHA-2013-0016.

OSHA staff will review all comments to the docket submitted in a timely manner and, after addressing the issues raised by these comments, will recommend to the Assistant Secretary for Occupational Safety and Health whether to grant CCL's applications for expansion of its scope of recognition. The Assistant Secretary will make the final decision on granting the applications. In making this decision, the Assistant Secretary may undertake other proceedings prescribed in Appendix A to 29 CFR 1910.7.

OSHA will publish a public notice of this final decision in the Federal Register.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on May 12, 2016.
David Michaels,
Assistant Secretary of Labor for Occupational Safety and Health.

[FR Doc. 2016-11595 Filed 5-16-16; 8:45 am]

BILLING CODE 4510-26-P